DEPARTMENT OF THE INTERIOR

Office of the Secretary

Invasive Species Advisory Committee

AGENCY: Office of the Secretary, Interior.

ACTION: Notice of public meetings of the Invasive Species Advisory Committee and National Invasive Species Council.

SUMMARY: Pursuant to the provisions of the Federal Advisory Committee Act, notice is hereby given of meetings of the Invasive Species Advisory Committee (ISAC). The purpose of the ISAC is to provide advice to the National Invasive Species Council, as authorized by Executive Order 13112, on a broad array of issues related to preventing the introduction of invasive species and providing for their control and minimizing the economic, ecological, and human health impacts that invasive species cause. The Council is Co-chaired by the Secretary of the Interior, the Secretary of Agriculture, and the Secretary of Commerce. The duty of the Council is to provide national leadership regarding invasive species issues. The purpose of meetings on October 29-30, 2003 are to convene the full Advisory Committee (appointed by Secretary Norton on April 1, 2002); and to discuss implementation of action items outlined in the National Invasive Species Management Plan, finalized on January 18, 2001. A joint meeting of the ISAC and the National Invasive Species Council will also be held during the ISAC meeting.

DATES: Meeting of Invasive Species Advisory Committee: 9 a.m., Wednesday, October 29, 2003; and 8:30 a.m., Thursday October 30, 2003.

ADDRESSES: Wyndham Washington DC, 1400 M Street, NW., Washington, DC 20005. Meetings on both days will be held in the Monticello Ballroom.

FOR FURTHER INFORMATION CONTACT: Kelsey Passé, National Invasive Species Council Program Analyst; Phone: (202) 513-7243; Fax: (202) 371-1751.

Dated: September 16, 2003.
Lori Williams,
Executive Director, National Invasive Species Council.

[FR Doc. 03-24333 Filed 9-25-03; 8:45 am]

BILLING CODE 4310-RK-P